ENVIRONMENTAL PROTECTION AGENCY

[FRL-8015-6]

Science Advisory Board (SAB) Staff Office; Notification of a Teleconference of the Arsenic Review Panel

AGENCY: Environmental Protection Agency (EPA).

ACTION: Notice.

SUMMARY: The EPA Science Advisory Board (SAB) Staff Office announces an upcoming public teleconference of the SAB Arsenic Review Panel to discuss its draft report, Advisory on EPA's Assessments of Carcinogenic Effects of Organic and Inorganic Arsenic.

DATES: The date for the teleconference is January 24, 2006, from 1:30 p.m. to 4 p.m., Eastern time.

FOR FURTHER INFORMATION CONTACT: Members of the public who wish to obtain the teleconference call-in number and access code to participate in the teleconference may contact Mr. Thomas O. Miller, Designated Federal Officer (DFO), by telephone at (202) 343-9982 or e-mail at miller.tom@epa.gov. General information about the SAB, as well as any updates concerning the teleconference announced in this notice, may be found on the SAB Web Site at: http://www.epa.gov/sab.

SUPPLEMENTARY INFORMATION: Background: Pursuant to the Federal Advisory Committee Act, Public Law 92-463, notice is hereby given that the SAB Arsenic Review Panel will hold a public teleconference on the date and time provided above. The purpose of this teleconference is for the Panel members to discuss the draft report, Advisory on EPA's Assessments of Carcinogenic Effects of Organic and Inorganic Arsenic. Background on this issue was provided in two Federal Register notices published on February 23, 2005 (70 FR 8803-8804) and July 26, 2005 (70 FR 43144-43145). In addition, the teleconference of the Panel originally scheduled for December 5, 2005 was postponed and noticed in the Federal Register on December, 2, 2005 (70 FR 72116).

Human exposure to arsenic compounds can occur through various environmental media by their use as pesticides (e.g., dessicants/defoliants, wood preservatives) or from industrial wastes. EPA regulates environmental exposure to arsenic compounds pursuant to requirements of several laws (e.g., the Safe Drinking Water Act; the Federal Insecticide, Fungicide, and Rodenticide Act; and the Food Quality Protection Act). EPA asked the SAB to provide advice on scientific issues underlying the Agency's assessments of the carcinogenic potential of arsenic compounds. In response to EPA's request, the SAB Staff Office formed an Ad Hoc Panel to review relevant background data and to consider the underlying scientific questions. The Panel drafted an advisory report to respond to the EPA charge. That draft report will be the focus of the January 24, 2006 public teleconference announced in this notice.

Availability of Meeting Materials: A roster of the Panel members, the teleconference agenda, the charge to the Panel, and the Panel's draft report will be posted on the SAB Web site at: http://www.epa.gov/sab/panels/arsenic_review_panel.htm, prior to the teleconference.

EPA's Toxicological Review of Inorganic Arsenic and related background information on inorganic arsenic may be found at: http://www.epa.gov/waterscience/sab. The technical contact for the above information on inorganic arsenic is Dr. Elizabeth Doyle, (202) 566-0056, of the Office of Water. EPA's assessment for organic arsenic, Science Issue Paper: Cancer Mode of Action of Cacodylic Acid (Dimethylarsinic Acid, DMAV and Recommendations for Dose Response Extrapolation and other related background information on organic arsenic may be found at: http://www.epa.gov/oppsrrd1/reregistration/cacodylic_acid. The technical contact for the above information on organic arsenic is Dr. Anna Lowit, (703) 308-4135, of the Office of Pesticide Programs.

Procedures for Providing Public Input: Interested members of the public may submit relevant written or oral information for the SAB Panel to consider during the advisory process. Oral Statements: In general, individuals or groups requesting an oral presentation at a public teleconference will be limited to three minutes per speaker with no more than a total of fifteen minutes for all speakers. Interested parties should contact the DFO, contact information provided above, in writing via e-mail by January 17, 2006, to be placed on the public speaker list for the teleconference. Written Statements: Written statements should be received in the SAB Staff Office by January 17, 2006, so that the information may be made available to the Panel for their consideration. Written statements should be supplied to the DFO in the following formats: One hard copy with original signature, and one electronic copy via e-mail (acceptable file format: Adobe Acrobat, WordPerfect, Word, or Rich Text files in IBM-PC/Windows 98/2000/XP format).

Meeting Accommodations: For information on access or services for individuals with disabilities, please contact the DFO, contact information provided above. To request accommodation of a disability, please contact the DFO, preferably at least 10 days prior to the meeting, to give EPA as much time as possible to process your request.

Dated: December 20, 2005.
Richard Albores,
Acting Director EPA Science Advisory Board Staff Office.

[FR Doc. E5-7850 Filed 12-23-05; 8:45 am]

BILLING CODE 6560-50-P